DEPARTMENT OF COMMERCE

National Oceanic and Atmospheric Administration

[I.D. 081001C]

Receipt of an Application for an Incidental Take Permit (1348).

AGENCY: National Marine Fisheries Service (NMFS), National Oceanic and Atmospheric Administration (NOAA), Commerce.

ACTION: Notice of availability.

SUMMARY: NMFS has received an application for an incidental take permit (Permit) from the North Carolina Division of Marine Fisheries (NCDMF) pursuant to the Endangered Species Act of 1973, as amended (ESA). As required by the ESA, NCDMF’s application includes a conservation plan designed to minimize and mitigate any such take of endangered or threatened species. The Permit application is for the incidental take of ESA-listed adult and juvenile sea turtles associated with otherwise lawful commercial fall gillnet fisheries for flounder in the southeastern portion of Pamlico Sound in the state of North Carolina. The duration of the proposed Permit is for 1 year. NMFS is furnishing this notice in order to allow other agencies and the public an opportunity to review and comment on this document. All comments received will become part of the public record and will be available for review pursuant to the ESA.

DATES: Written comments from interested parties on the Permit application and Plan must be received at the appropriate address or fax number (see ADDRESSES) no later than 5 pm Eastern daylight time on September 14, 2001.

ADDRESSES: Written comments on this action should be addressed to the Chief, Endangered Species Division, Office of Protected Resources, NMFS, 1315 East-West Highway, Silver Spring, MD 20910. Comments may also be sent via fax to 301-713-0376. The application is available for download and review at http://www.nmfs.noaa.gov/ prot_res/PR3/Permits/ESAPermit.html. Comments will not be accepted if submitted via e-mail or the Internet.

FOR FURTHER INFORMATION CONTACT: David Bernhart (ph. 727-570-5312, fax 727-570-5517, e-mail David.Bernhart@noaa.gov). Comments received will also be available for public inspection, by appointment, during normal business hours by calling 301-713-1401.

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. NMFS regulations governing permits for threatened and endangered species are promulgated at 50 CFR 222.307.

Species Covered in this Notice

The following species are included in the Plan and Permit application: Loggerhead (Caretta caretta), green (Chelonia mydas), leatherback (Dermochelys coriacea), hawksbill (Eretmochelys imbricata), and Kemp’s ridley (Lepidochelys kempii) sea turtles.

Background

On August 8, 2001, NCDMF submitted an application to NMFS for an ESA section 10 (a)(1)(B) permit for an incidental take of ESA-listed sea turtles associated with commercial fall gillnet fisheries for flounder in the southeastern portion of Pamlico Sound. This application includes endangered Kemp’s ridley, leatherback, and hawksbill sea turtles and the threatened green and loggerhead sea turtles. This fishery targets flounder. The proposed implementation of this fishery will allow for the continued commercial harvest of this species. This fishery is estimated to have a value of over one million dollars per year. This fishery supports fishermen and the local economy.

Conservation Plan

The Conservation Plan prepared by NCDMF describes measures designed to monitor, minimize, and mitigate the incidental takes of ESA-listed sea turtles, focusing on the following fishery:

Fall Gillnet Flounder Fishery

This fishery is scheduled to occur from September 15 through December 15, 2001. The fall flounder gillnet fishery in Pamlico Sound occurs predominantly in an area lying south of a line running westerly from a point on Hatteras Island, Dare County (35″ 23′ 00″ N - 75″ 30′ 00″ W) through the Avon Channel Entrance Beacon No. 1 (35″ 23′ 00″ N - 75″ 33′ 38″ W) thence westerly to Bensons Point (3″ 23′ 00″ N - 76″ 03′ 42″ W) at Wysocking Bay, Hyde County and east of a line running southerly from Bensons Point along the eastern edge of Bluff Shoal to the west side of Ocracoke Inlet, Carteret County (35″ 03′ 42″ N - 76″ 02′ 12″ W) thence running easterly and northerly along the shoreline of the Pamlico Sound back to the point of beginning. This area is referred to as the Gillnet Restricted Area (GRA). Flounder gillnets are set in the GRA from mid-September through mid-December in waters ranging between 10 and 20 feet (3.1 m to 6.2 m) deep to target flounder migrating from the estuaries to offshore spawning grounds. Pamlico Sound flounder gillnets are normally hung with 5 and one-half to 6 and one-half inch ( 14 cm to 16.5 cm) mesh monofilament webbing, and fisherman routinely set from 2,000 to 10,000 (1,828 m to 9,140 m) yards of net at a time. Telephone interviews by NCDMF staff with flounder gillnet fishermen (n=31) indicate that in 1999 the average amount of 5 inch and larger mesh gillnet set per fishing operation was 4,750 yards (4,342 m). Many of the flounder gillnet fishermen use net reels to set and retrieve their gear. The nets are approximately 10 feet (3.1 m) deep, however many fishermen use tiedowns which restrict the nets to the bottom three to four feet ( of the water column. The nets are constructed of small diameter webbing that is hung loosely to create excess bag in the net which improves the catch of flounder. Flounder gillnets are normally fished every day or every other day depending on recent catches and weather conditions. Soak times generally range between 12 and 48 hours. It is estimated that in the fall of 1999, between 90 and 95 vessels participated in the large mesh and small mesh gillnet fisheries in the Pamlico Sound. Approximately one-half of these vessels are believed to have fished large mesh gillnets. NCDMF Trip Ticket Program information for 1999 indicates that 45 vessels greater than 25 feet (7.6 m) in length and nine vessels less than 25 feet (7.6 m) in length landed more than 1,000 pounds ( 453.1 kg) of flounder per month from September through December.

Incidental mortalities of ESA-listed sea turtles associated with the commercial fall gillnet fishery for flounder in Pamlico Sound, North Carolina are requested at levels specified in the Permit application. NCDMF is proposing to limit the commercial fall gillnet fishery for flounder such that the incidental impacts on ESA-listed sea turtles will be minimized. NCDMF would use a variety of adaptive fishery management measures and restrictions through their state proclamation authority to reduce sea turtle mortality in the fall gillnet fishery by 50 percent, compared to the mortality level indicated by strandings in 1999. NCDMF considered and rejected one other alternative, not applying for a permit and closing the fishery, when developing their plan.

This notice is provided pursuant to section 10(c) of the ESA and the NEPA regulations (40 CFR 1506.6). NMFS will evaluate the application, associated documents, and comments submitted thereon to determine whether the application meets the requirements of the NEPA regulations and section 10 (a) of the ESA. If it is determined that the requirements are met, a permit will be issued for incidental takes of ESA-listed sea turtles under the jurisdiction of NMFS. The final NEPA and permit determinations will not be completed until after the end of the 30-day comment period and will fully consider all public comments received during the comment period. NMFS will publish a record of its final action in the Federal Register.

Dated: August 10, 2001.
Therese Conant,
Acting Chief, Endangered Species Division, Office of Protected Resources, National Marine Fisheries Service.

[FR Doc. 01-20544 Filed 8-10-01; 3:41 pm]

BILLING CODE 3510-22-S